NATIONAL AERONAUTICS AND SPACE ADMINISTRATION

[Notice: (21-076)]

National Space-Based Positioning, Navigation, and Timing Advisory Board; Meeting

AGENCY: National Aeronautics and Space Administration.

ACTION: Notice of meeting.

SUMMARY: In accordance with the Federal Advisory Committee Act, as amended, the National Aeronautics and Space Administration (NASA) announces a meeting of the National Space-Based Positioning, Navigation and Timing (PNT) Advisory Board. This will be the 25th meeting of the PNT Advisory Board.

DATES: Thursday, December 9, 2021, from 8:30 a.m.-6:00 p.m., Eastern Time; and Friday, December 10, 2021, from 8:30 a.m.-12:00 p.m., Eastern Time.

ADDRESSES: Sheraton Pentagon City Hotel, Galaxy Ballroom, 900 South Orme Street, Arlington, Virginia 22204.

FOR FURTHER INFORMATION CONTACT: Mr. James Joseph Miller, Designated Federal Officer, PNT Advisory Board, Space Operations Mission Directorate, NASA Headquarters, Washington, DC 20546, (202) 262-0929 or jj.miller@nasa.gov.

SUPPLEMENTARY INFORMATION: This meeting will be open to the public up to the capacity of the meeting room. In-person attendees will be requested to sign a register prior to entrance to the proceedings. Webcast details to watch the meeting remotely will be available on the PNT Advisory Board website at: www.gps.gov/governance/advisory/.

The agenda for the meeting will include the following:

—Opening Remarks and Meeting Objectives by PNT Advisory Board Chair

—Reports and Updates from PNT Advisory Board Working Groups

—Preliminary Deliberations on any Findings and Recommendations

—Other PNT Advisory Board Business and Work Plan Schedule

For further information, visit the PNT Advisory Board website at: https://www.gps.gov/governance/advisory/.

It is imperative that the meeting be held on these dates to meet the scheduling availability of key participants.

Patricia Rausch,
Advisory Committee Management Officer, National Aeronautics and Space Administration.

[FR Doc. 2021-25218 Filed 11-18-21; 8:45 am]

BILLING CODE 7510-13-P